ADMINISTRATIVE CONFERENCE OF THE UNITED STATES

Notice of Public Meeting of the Assembly of the Administrative Conference of the United States

AGENCY: Administrative Conference of the United States.

ACTION: Notice.

SUMMARY: The Assembly of the Administrative Conference of the United States will meet during a one-day hybrid plenary session to consider four proposed recommendations and to conduct other business. Written comments may be submitted in advance, and the meeting will be accessible to the public.

DATES: The meeting will take place on Thursday, June 15, 2023, from 9 a.m.-5 p.m. (ET). The meeting may adjourn early if all business is finished.

ADDRESSES: For those attending in person, the meeting will be held at The George Washington University Law School in the Jacob Burns Moot Court Room, 2000 H Street NW, Washington, DC 20052. There will be a virtual attendance option. Information on how the public can access the meeting will be available on the agency's website prior to the meeting at https://www.acus.gov/meetings-and-events/plenary-meeting/79th-plenary-session.

FOR FURTHER INFORMATION CONTACT: Shawne McGibbon, General Counsel (Designated Federal Officer), Administrative Conference of the United States, Suite 706 South, 1120 20th Street NW, Washington, DC 20036; telephone 202-480-2080; email smcgibbon@acus.gov.

SUPPLEMENTARY INFORMATION: The Administrative Conference of the United States makes recommendations to Federal agencies, the President, Congress, and the Judicial Conference of the United States regarding the improvement of administrative procedures (5 U.S.C. 594). The membership of the Conference, when meeting in plenary session, constitutes the Assembly of the Conference (5 U.S.C. 595).

Agenda: Four proposed recommendations will be considered by the Assembly. In addition, there will be updates on past, current, and pending Conference initiatives, as well as other business. Summaries of the recommendations appear below:

Artificial Intelligence in Retrospective Review of Agency Rules. This proposed recommendation identifies best practices for agencies to consider when designing or using artificial intelligence or other algorithmic tools to identify rules that are outdated or redundant, contain typographical errors or inaccurate cross-references, or might benefit from elaboration or clarification. It also discusses how agencies can design these tools in a way that promotes transparency, public participation, and accountability.

Disclosure of Agency Legal Materials. This proposed recommendation identifies statutory reforms that, if enacted by Congress, would provide clear standards as to what legal materials agencies must publish and where they must publish them (whether in the Federal Register, on their websites, or elsewhere). The amendments would also account for technological developments and correct certain statutory ambiguities and drafting errors. The objective of these amendments would be to ensure that agencies provide ready public access to important legal materials in the most efficient way possible.

Online Processes in Agency Adjudication. This proposed recommendation identifies best practices for developing online processes by which private parties, representatives, and other participants in agency adjudications can file forms, evidence, and briefs; view case materials and status information; receive notices and orders; and perform other common adjudicative tasks.

Virtual Public Engagement in Agency Rulemaking. This proposed recommendation identifies best practices to promote enhanced transparency, accessibility, and accountability when agencies use virtual tools to engage the public in connection with agency rulemaking activities. It encourages agencies to offer virtual options when it would be beneficial to do so and offers best practices for structuring virtual public engagements in a way that meets public expectations and promotes valuable input for agency decision makers.

Additional information about the proposals and the agenda, as well as any changes or updates to the same, can be found at the 79th Plenary Session page on the Conference's website prior to the start of the meeting: at https://www.acus.gov/meetings-and-events/plenary-meeting/79th-plenary-session.

Public Participation: The Conference welcomes the virtual attendance of the public at the meeting. Members of the public wishing to view the meeting are asked to RSVP online at the 79th Plenary Session web page shown above no later than two days before the meeting to ensure adequate bandwidth. A link to a livestream of the meeting will be posted the morning of the meeting on the 79th Plenary Session web page. A video recording of the meeting will be available on the Conference's website shortly after the conclusion of the event at https://youtube.com/@administrativeconferenceof9987.

Written Comments: Persons who wish to comment on any of the proposed recommendations may do so by submitting a written statement either online by clicking “Submit a comment” on the 79th Plenary Session web page shown above or by mail addressed to: June 2023 Plenary Session Comments, Administrative Conference of the United States, Suite 706 South, 1120 20th Street NW, Washington, DC 20036. Written submissions must be received no later than 10:00 a.m. (ET), Friday, June 9, 2023, to ensure consideration by the Assembly.

(Authority: 5 U.S.C. 595.)

Dated: May 23, 2023.
Shawne McGibbon,
General Counsel.

[FR Doc. 2023-11362 Filed 5-26-23; 8:45 am]

BILLING CODE 6110-01-P